DEPARTMENT OF TRANSPORTATION

Federal Aviation Administration

14 CFR Part 39

[Docket No. FAA-2011-0760; Directorate Identifier 2011-NE-10-AD; Amendment 39-16789; AD 2011-18-07]

RIN 2120-AA64

Airworthiness Directives; WYTWORNIA SPRZETU KOMUNIKACYJNEGO (WSK) “PZL-RZESZOW”—SPOLKA AKCYJNA (SA) PZL-10W Turboshaft Engines

AGENCY: Federal Aviation Administration (FAA), DOT.

ACTION: Final rule; correction.

SUMMARY: The FAA is correcting an airworthiness directive (AD) that published in the Federal Register. That AD applies to the products listed above. The effective date in paragraph (a) of the Amended section of the AD is incorrect. This document corrects that error. In all other respects, the original document remains the same.

DATES: This final rule is effective October 17, 2011. The effective date of AD 2011-18-07 remains October 4, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: James Lawrence, Aerospace Engineer, Engine Certification Office, FAA, Engine & Propeller Directorate, 12 New England Executive Park, Burlington, MA 01803; e-mail: james.lawrence@faa.gov; phone: 781-238-7176; fax: 781-238-7199.

SUPPLEMENTARY INFORMATION: Airworthiness Directive 2011-18-07, Amendment 39-16789 (76 FR 57900, September 19, 2011), currently requires a one time inspection of spline teeth on the fuel metering pump shaft for excessive wear, for WSK PZL-10W series turboshaft engines.

As published, paragraph (a) of the Amended section is incorrect.

No other part of the preamble or regulatory information has been changed; therefore, only the changed portion of the final rule is being published in the Federal Register.

The effective date of this AD remains October 4, 2011.

Correction of Regulatory Text

§ 39.13 [Corrected]

In the Federal Register of September 19, 2011, on page 57901, in the third column, paragraph (a) of AD 2011-18-07 is corrected to read as follows:

(a) This airworthiness directive (AD) becomes effective October 4, 2011.

Issued in Burlington, Massachusetts, on October 4, 2011.
Peter A. White,
Manager, Engine and Propeller Directorate, Aircraft Certification Service.

[FR Doc. 2011-26274 Filed 10-14-11; 8:45 am]

BILLING CODE 4910-13-P